FEDERAL COMMUNICATIONS COMMISSION

47 CFR Part 80

[PR Docket No. 92-257; RM-9664; FCC 00-370]

Maritime Communications

AGENCY: Federal Communications Commission.

ACTION: Proposed rules.

SUMMARY: In this document, the Commission proposes to amend the rules governing Automated Maritime Telecommunications Systems (AMTS) and high seas public coast stations. The Commission proposes, among other things, to designate licensing regions and authorize one licensee for each currently unassigned AMTS frequency block on a geographic basis; to allow partitioning and disaggregation for AMTS geographic licensees, disaggregation for site-based AMTS licensees, and partitioning for most high seas public coast station licensees; and to establish competitive bidding procedures to resolve mutually exclusive applications for AMTS and high seas public coast spectrum. These proposed rules should increase the number and types of communications services available to the maritime community.

DATES: Comments are due February 6, 2001, Reply Comments are due March 8, 2001.

ADDRESSES: Parties who choose to file comments by paper must file an original and four copies to the Commission's Secretary, Magalie Roman Salas, Office of the Secretary, Federal Communications Commission, 445 12th St., SW., Room TW-A325, Washington, DC 20554. Comments may also be filed using the Commission's Electronic Filing System, which can be accessed via the Internet at www.fcc.gov/e-file/ecfs.html.

FOR FURTHER INFORMATION CONTACT: Keith Fickner, Policy and Rules Branch, Public Safety and Private Wireless Division, Wireless Telecommunications Bureau at (202) 418-0680.

SUPPLEMENTARY INFORMATION: 1. The Commission's Third Notice of Proposed Rule Making (3rd NPRM), PR Docket No. 92-257, FCC 00-370, adopted October 13, 2000, and released on November 16, 2000. The full text of this 3rd NPRM is available for inspection and copying during normal business hours in the FCC Reference Center, Room CY-A257, 445 12th Street, SW., Washington, DC. The complete text may be purchased from the Commission's copy contractor, International Transcription Service, Inc., 1231 20th Street, NW., Washington, DC 20037. The full text may also be downloaded at: http://www.fcc.gov/Wireless/Orders/2000/fcc00370.txt. Alternative formats are available to persons with disabilities by contacting Martha Contee at (202) 418-0260 or TTY (202) 418-2555.

Summary of the 3rd NPRM

2. The Commission proposes a transition from the site-based licensing approach to geographic area licensing because such an approach would speed assignment of subsequent AMTS licenses, reduce processing burdens on the Commission, facilitate the expansion of existing AMTS systems and the development of new AMTS systems, eliminate inefficiencies arising from the intricate web of relationships created by site-specific authorization, and enhance regulatory symmetry.

3. The Commission seeks comment on whether the use of band manager licensing may be an appropriate alternative method of accomplishing the objectives that it strives to achieve through its partitioning and disaggregation rules. Band managers would be a class of Commission licensee that would engage in the business of making spectrum available for use by others through private, written contracts.

4. The Commission seeks comment, in light of its continuing commitment to take measures to ensure that the current and future communications needs of the public safety community are addressed, on whether it should take any steps to facilitate use of AMTS spectrum by public safety entities, including setting aside some channels for public safety use.

5. The Commission proposes to modify the requirement that AMTS stations must serve a waterway because it is inconsistent with geographic licensing and could prevent service from being offered in some licensing areas. Therefore, the Commission seeks comment on its proposal that stations may be placed anywhere within a licensee's service area so long as marine-originating traffic is given priority and incumbent operations are protected. It also seeks comment on its proposal that licensees whose service areas encompass certain major waterways be required to provide coverage to those waterways, as is required of VHF public coast geographic licensees.

6. The Commission proposes to authorize two geographic area licensees in each licensing area, with each licensee authorized to use one of the two AMTS frequency blocks because it concludes that this will promote competition in the maritime CMRS marketplace. Under this proposal, incumbent AMTS licensees would be permitted to operate their systems indefinitely, and incumbents and geographic licensees would have to afford each other interference protection.

7. The Commission proposes to license HF public coast station radiotelephone frequency pairs individually, rather than in blocks, due to this frequency's propagation characteristics and insufficient demand.

8. The Commission also proposes to redistribute radiotelephone frequency pairs by permitting MF private coast stations to use unassigned public coast station radiotelephone frequency pairs in the 2 MHz band for non-CMRS services because it will promote the more efficient use of maritime spectrum and reduce congestion for MF private coast licensees.

9. Finally, the Commission concludes that the engineering study requirement for new AMTS stations that are not fill-in stations should not be eliminated because it continues to be a critical mechanism for protecting television reception.

Regulatory Flexibility Analysis

10. As required by the RFA, the Commission has prepared this present IRFA of the possible significant economic impact on small entities of the policies and rules proposed in the Third Further Notice of Proposed Rule Making (3rd FNPRM). Written public comments are requested on this IRFA. Comments must be identified as responses to the IRFA and must be filed by the deadlines for comments on the 3rd FNPRM provided in the item. The Commission will send a copy of the 3rd FNPRM, including this IRFA, to the Chief Counsel for Advocacy of the Small Business Administration. See 5 U.S.C. 603(a). In addition, the 3rd FNPRM and IRFA (or summaries thereof) will be published in the Federal Register. See id.

A. Need for, and Objectives of, the Proposed Rules

11. Our objective is to determine whether it is in the public interest, convenience, and necessity to simplify our licensing process for AMTS and high seas public coast stations. These proposals include (1) converting licensing of AMTS coast station spectrum from site-based to geographic area licensing, (2) simplifying the AMTS licensing procedures and rules, (3) increasing AMTS and high seas public coast station licensee flexibility to provide service over a wide area, and (4) employing the Commission's Part 1 standardized competitive bidding procedures to resolve mutually exclusive applications. In addition, we temporarily suspend the acceptance and processing of certain AMTS and high seas public coast station applications because we believe that after the public has been placed on notice of our proposed rule changes, continuing to accept new applications under the current rules would impair the objectives of this proceeding. These proposed rules and actions should increase the number and types of communications services available to the maritime community.

B. Legal Basis:

1. Authority for issuance of this item is contained in sections 4(i), 4(j), 7(a), 302, 303(b), 303(f), 303(g), 303(r), 307(e), 332(a), and 332(c) of the Communications Act of 1934, as amended, 47 U.S.C. 154(i), 154(j), 157(a), 302, 303(b), 303(f), 303(g), 303(r), 307(e), 332(a), and 332(c).

C. Description and Estimate of the Number of Small Entities to Which the Proposed Rules Will Apply

13. The RFA directs agencies to provide a description of and, where feasible, an estimate of the number of small entities that may be affected by the proposed rules, if adopted. The RFA generally defines the term “small entity” as having the same meaning as the terms “small business,” “small organization,” and “small governmental jurisdiction.” In addition, the term “small business” has the same meaning as the term “small business concern” under the Small Business Act. A small business concern is one which: (1) Is independently owned and operated; (2) is not dominant in its field of operation; and (3) satisfies any additional criteria established by the Small Business Administration (SBA). A small organization is generally “any not-for-profit enterprise which is independently owned and operated and is not dominant in its field.”

14. The proposed rules would affect licensees using AMTS and high seas public coast spectrum. In the Third Report and Order in this proceeding, the Commission defined the term “small entity” specifically applicable to public coast station licensees as any entity employing less than 1,500 persons, based on the definition under the Small Business Administration rules applicable to radiotelephone service providers. See, Amendment of the Commission's Rules Concerning Maritime Communications, Third Report and Order and Memorandum Opinion and Order, 13 FCC Rcd 19853, 19893 (1998) (citing 13 CFR 121.201, Standard Industrial Classification (SIC) Code 4812). Since the size data provided by the Small Business Administration does not enable us to make a meaningful estimate of the number of AMTS and high seas public coast station licensees that are small businesses, we have used the 1992 Census of Transportation, Communications, and Utilities, conducted by the Bureau of the Census, which is the most recent information available. This document shows that only 12 radiotelephone firms out of a total of 1,178 such firms which operated in 1992 had 1,000 or more employees. Thus, we estimate that no fewer than 1,166 small entities will be affected. Any entity that is capable of providing radiotelephone service is eligible to hold a public coast license. Therefore, we seek comment on the number of small entities that use AMTS and high seas public coast spectrum and the number of small entities that are likely to apply for licenses under the various proposals described herein.

D. Description of Projected Reporting, Recordkeeping, and Other Compliance Requirements

15. We will award licenses by competitive bidding where mutually exclusive applications are filed. Prior to auction, all applicants, including small businesses, will be required to submit an FCC Form 175, OMB Clearance Number 3060-0600. If we use small business definitions for the purpose of providing bidding credits to auction participants, then all small businesses that choose to participate in these services will be required to demonstrate that they meet the criteria set forth to qualify as small businesses, as required under part 1, Subpart Q of the Commission's Rules. See 47 CFR part 1, Subpart Q. Any small business applicant wishing to avail itself of small business provisions will need to make the general financial disclosures necessary to establish that the small business is in fact small. The estimated time for filling out an FCC Form 175 is 45 minutes. Each applicant will have to submit information regarding the ownership of the applicant, any joint venture arrangements or bidding consortia that the applicant has entered into, and, if claiming eligibility for bidding credits, financial information demonstrating that the applicant qualifies as a small business. Applicants that do not have audited financial statements available will be permitted to certify the validity of their financial showings. While many small businesses have chosen to employ attorneys prior to filing an application to participate in an auction, the rules are intended to enable a small business to file an application on its own using the short form application preparation guidelines that are made available by the Commission before any auction. When an applicant wins a license, it will be required to submit an FCC Form 601 license application, which will require technical information regarding the applicant's proposals for providing service and other information. This application will require information provided by an engineer who will have knowledge of the system's design. The estimated time for completing an FCC Form 601 is one hour and fifteen minutes.

E. Significant Alternatives Minimizing the Economic Impact on Small Entities

16. The RFA requires an agency to describe any significant alternatives that it has considered in reaching its proposed approach, which may include the following four alternatives: (1) The establishment of differing compliance or reporting requirements or timetables that take into account the resources available to small entities; (2) the clarification, consolidation, or simplification of compliance or reporting requirements under the rule for small entities; (3) the use of performance, rather than design, standards; and (4) an exemption from coverage of the rule, or any part thereof, for small entities.

17. In the 3rd FNPRM, the Commission proposes that the part 1 unjust enrichment provisions will govern partitioning and disaggregation arrangements involving AMTS licenses owned by small businesses that were afforded a bidding credit and later elect to partition or disaggregate their licenses to an entity that does not qualify as a small business. The alternative to applying the unjust enrichment provisions would be to allow an entity who had benefited from the special bidding provisions for small businesses to become unjustly enriched by partitioning or disaggregating its licenses to parties that do not qualify for such benefits.

18. The 3rd FNPRM solicits comment on a variety of alternatives set forth herein. Any significant alternative presented in the comments will be considered.

F. Federal Rules that May Duplicate, Overlap, or Conflict With the Proposed Rules

None.

List of Subjects 47 CFR Parts 13 and 80

Communications equipment, Radio.

Federal Communications Commission.
Magalie Roman Salas,
Secretary.

[FR Doc. 00-31309 Filed 12-7-00; 8:45 am]

BILLING CODE 6712-01-U